DEPARTMENT OF ENERGY

Federal Energy Regulatory Commission

Combined Notice of Filings #2

Take notice that the Commission received the following electric rate filings:

Docket Numbers: ER11-3576-010;ER11-3401-009.

Applicants: Golden Spread Electric Cooperative, Inc., Golden Spread Panhandle Wind Ranch, LLC.

Description: Notice of Change in Status of Golden Spread Electric Cooperative, Inc., et al.

Filed Date: 8/27/13.

Accession Number: 20130827-5173.

Comments Due: 5 p.m. ET 9/17/13.

Docket Numbers: ER12-1153-003; ER11-1846-003; ER11-2516-004; ER11-2598-006; ER11-1848-003; ER11-2509-005; ER11-1847-003; ER11-1850-003; ER12-1152-003.

Applicants: Bounce Energy NY, LLC, Bounce Energy PA, LLC, Direct Energy Business, LLC, Direct Energy Marketing, Inc., Direct Energy Services, LLC, Energetix, Inc., Energy America, LLC, Gateway Energy Services Corporation, NYSEG Solutions, Inc.

Description: Notice of Change in Status and Notice of Change to Conditions Related to Former Owners of Bounce NY et al.

Filed Date: 8/27/13.

Accession Number: 20130827-5063.

Comments Due: 5 p.m. ET 9/17/13.

Docket Numbers: ER13-1430-000.

Applicants: Arlington Valley Solar Energy II, LLC.

Description: Refund Report to be effective N/A.

Filed Date: 8/22/13.

Accession Number: 20130822-5164.

Comments Due: 5 p.m. ET 9/12/13.

Docket Numbers: ER13-1910-002.

Applicants: Guzman Power Markets.

Description: Market-Based Rate Tariff #1 revision to be effective 8/20/2013.

Filed Date: 8/27/13.

Accession Number: 20130827-5028.

Comments Due: 5 p.m. ET 9/17/13.

Docket Numbers: ER13-2233-000.

Applicants: Midcontinent Independent System Operator, Inc.

Description: Midcontinent Independent System Operator, Inc. submits 08-27-2013 Order 764 Errata to be effective N/A.

Filed Date: 8/27/13.

Accession Number: 20130827-5168.

Comments Due: 5 p.m. ET 9/17/13.

Docket Numbers: ER13-2250-000.

Applicants: NorthWestern Corporation

Description: Cancellation of SA 586, Amended and Restated GIA with PPL Montana to be effective 8/23/201.

Filed Date: 8/27/13.

Accession Number: 20130827-5000.

Comments Due: 5 p.m. ET 9/17/13.

Docket Numbers: ER13-2251-000.

Applicants: Southwest Power Pool, Inc.

Description: 1888R2 Westar Energy, Inc. NITSA and NOA to be effective 8/1/2013.

Filed Date: 8/27/13.

Accession Number: 20130827-5035.

Comments Due: 5 p.m. ET 9/17/13.

Docket Numbers: ER13-2252-000.

Applicants: Southwest Power Pool, Inc.

Description: 1890R2 Westar Energy, Inc. NITSA and NOA to be effective 8/1/2013.

Filed Date: 8/27/13.

Accession Number: 20130827-5114.

Comments Due: 5 p.m. ET 9/17/13.

Docket Numbers: ER13-2253-000.

Applicants: PacifiCorp.

Description: BPA AC Intertie Agreement 8th Revised to be effective 10/27/2013.

Filed Date: 8/27/13.

Accession Number: 20130827-5115.

Comments Due: 5 p.m. ET 9/17/13.

Docket Numbers: ER13-2254-000.

Applicants: Southwest Power Pool, Inc.

Description: 1889R2 Westar Energy, Inc. NITSA and NOA to be effective 8/1/2013.

Filed Date: 8/27/13.

Accession Number: 20130827-5116.

Comments Due: 5 p.m. ET 9/17/13.

Docket Numbers: ER13-2255-000.

Applicants: Mansfield Power and Gas, LLC.

Description: Mansfield Power and Gas, LLC to be effective 9/30/2013.

Filed Date: 8/27/13.

Accession Number: 20130827-5119.

Comments Due: 5 p.m. ET 9/17/13.

Docket Numbers: ER13-2256-000.

Applicants: PacifiCorp.

Description: SIEA to be effective 10/27/2013.

Filed Date: 8/27/13.

Accession Number: 20130827-5121.

Comments Due: 5 p.m. ET 9/17/13.

Docket Numbers: ER13-2257-000.

Applicants: Southwest Power Pool, Inc.

Description: 1891R2 Westar Energy, Inc. NITSA and NOA to be effective 8/1/2013.

Filed Date: 8/27/13.

Accession Number: 20130827-5122.

Comments Due: 5 p.m. ET 9/17/13.

Docket Numbers: ER13-2258-000.

Applicants: Southwest Power Pool, Inc.

Description: Southwest Power Pool, Inc. submits tariff filing per 35.13(a)(2)(iii: 1892R2 Westar Energy, Inc. NITSA and NOA to be effective 8/1/2013.

Filed Date: 8/27/13.

Accession Number: 20130827-5158.

Comments Due: 5 p.m. ET 9/17/13.

Take notice that the Commission received the following electric reliability filings:

Docket Numbers: RD13-11-000.

Applicants: North American Electric Reliability Corporation.

Description: Joint Petition of North American Electric Reliability Corporation and Western Electricity Coordinating Council for Approval of BAL-004-WECC-02 and BAL-001-1.

Filed Date: 8/20/13.

Accession Number: 20130820-5149.

Comments Due: 5 p.m. ET 9/17/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 27, 2013.
Nathaniel J. Davis, Sr..
Deputy Secretary.

[FR Doc. 2013-21415 Filed 9-3-13; 8:45 am]

BILLING CODE 6717-01-P